DEPARTMENT OF TRANSPORTATION

Federal Transit Administration

Preparation of an Environmental Impact Statement on Transit Improvements for the Gold Line Corridor

AGENCY: Federal Transit Administration (FTA), U.S. Department of Transportation.

ACTION: Notice of intent to Prepare an Environmental Impact Statement (EIS).

SUMMARY: The Federal Transit Administration (FTA) and the Denver Regional Transportation District (RTD), in cooperation with the U.S. Army Corps of Engineers (USACE) and the Colorado Department of Transportation (CDOT), will prepare an Environmental Impact Statement (EIS) to evaluate the impacts of rail transit improvements for the Gold Line Corridor which extends from downtown Denver, Colorado west to Ward Road in Wheat Ridge, Colorado. The EIS will be prepared in accordance with regulations implementing the National Environmental Policy Act (NEPA), as well as provisions of the recently enacted Safe, Accountable, Flexible, Efficient Transportation Equity Act: A Legacy of Users. The purpose of this Notice of Intent is to alert interested parties regarding the plan to prepare the EIS, to provide information on the nature of the proposed transit project, to invite participation in the EIS process, including comments on the scope of the EIS proposed in this notice, and to announce that public scoping meetings will be conducted.

DATES: Written comments on the scope of the EIS should be sent to Dave Hollis, RTD Project Manager, by September 25, 2006. Public scoping meetings will be held on August 22nd and 23rd from 5:30 p.m. to 8:15 p.m. at the locations indicated below.

An interagency scoping meeting will be scheduled after agencies with an interest in the proposed project have been identified.

ADDRESSES: Written comments on the scope of the EIS should be sent to Dave Hollis, Gold Line Corridor Project Manager, Denver Regional Transportation District (RTD), 1560 Broadway, Suite 700, Denver, CO 80202. Comments may also be offered at the public scoping meetings. The addresses for the public scoping meetings are as follows:

Tuesday, August 22, Arvada Center, 6901 Wadsworth Blvd., Arvada, CO 80003.

Wednesday, August 23, Highlands Masonic Center, 3550 Federal Blvd., Denver, CO 80211.

For more information for special assistance needs for the scoping meetings, please contact Dave Hollis at (303) 299-2404 at least 48 hours before the meeting. All meetings will be conducted in wheelchair accessible locations.

FOR FURTHER INFORMATION CONTACT: Mr. David Beckhouse, Community Planner, Federal Transit Administration, Region VIII, 12300 West Dakota Ave., Suite 310, Lakewood, CO 80228-2583, (720) 963-3306.

SUPPLEMENTARY INFORMATION: The Proposed Project: The project extends 11 miles from Denver Union Station (DUS) in downtown Denver to Wheat Ridge. The project proposes stations at W. 38th Avenue, Pecos Street, Federal Boulevard, Sheridan Boulevard, Olde Town, Arvada Ridge, and Ward Road.

Purposes of and Need for the Proposed Project: The Gold Line area is forecast to be one of the fastest growing areas of the region over the next 20 years. Growth rates for both population and employment are forecast to increase significantly by 2030. Congestion along north I-25 and I-70 West is already severe, with forecasts indicating increasing severity and duration of congestion. In addition to increasing congestion, access through and from the corridor area to other areas in the metro region is difficult. Many roadways are not continuous, requiring circuitous travel. Existing transit service in the area is minimal and often requires a transfer in Downtown Denver for service to other areas. The project will provide a new rail transportation facility to improve local and regional mobility and accessibility for the west metropolitan area.

This transit project is included as part of RTD's FasTracks Program, a 12-year comprehensive plan for transit service and facilities in the Denver region. The FasTracks Plan is a $4.7 billion program that was endorsed by the voters of the Denver metropolitan area in 2004. The voters of the region approved an increase in the regional sales and use tax from 0.6% to 1.0% in order to provide for the expedited build out of the transit system. FasTracks includes a funding plan for 119 new miles of rail transit, 18 miles of bus rapid transit, 21,000 new spaces in park n Rides and significant improvements to the bus system. The FasTracks projects have been adopted in the current Denver area Regional Transportation Plan.

Alternatives: The NEPA scoping process will include an evaluation of the results of the MIS conducted by RTD between 1998 and 2000 as well as the Three Corridors Scoping Study that was completed in October 2005. The locally preferred alternative (LPA) of the MIS was LRT on the BNSF alignment (or Gold Line alignment) from DUS to Ward Road. These recommendations were approved by the Denver Regional Council of Governments and included in the fiscally constrained Regional Transportation Plan (RTP) and the MetroVision 2030 Master Plan.

FTA and RTD propose that the EIS evaluate the following alternatives:

The No-Action alternative is the option of implementing nothing more than the existing and committed road and transit improvements.

The Transportation System Management (TSM) alternative includes various transportation improvements beyond the existing and committed projects plus enhanced bus transit service in the Gold Line Corridor.

The MIS LPA will be evaluated as the proposed project. The EIS will also consider any additional reasonable alternatives identified during scoping that provide similar transportation benefits while reducing or avoiding adverse impacts.

The EIS Process and the Role of Participating Agencies and the Public: The purpose of the EIS process is to explore in a public setting potentially significant effects of implementing the proposed action and alternatives on the physical, human, and natural environment. Areas of investigation include, but are not limited to, land use, development potential, land acquisition and displacements, historic resources, visual and aesthetic qualities, air quality, noise and vibration, energy use, safety and security, and ecosystems, including threatened and endangered species. Measures to avoid, minimize, or mitigate any significant adverse impacts will be identified. Regulations implementing NEPA, as well as provisions of the recently enacted Safe, Accountable, Flexible, Efficient Transportation Equity Act: A Legacy for Users (SAFETEA-LU), call for public involvement in the EIS process. Section 6002 of SAFETEA-LU requires that FTA and RTD do the following: (1) Extend an invitation to other Federal and non-Federal agencies and Indian tribes that may have an interest in the proposed project to become “participating agencies,” (2) provide an opportunity for involvement by participating agencies and the public in helping to define the purpose and need for a proposed project, as well as the range of alternatives for consideration in the impact statement, and (3) establish a plan for coordinating public and agency participation in and comment on the environmental review process. An invitation to become a participating agency, with the scoping information packet appended, will be extended to other Federal and non-Federal agencies and Indian tribes that may have an interest in the proposed project. It is possible that we may not be able to identify all Federal and non-Federal agencies and Indian tribes that may have such an interest. Any Federal or non-Federal agency or Indian tribe interested in the proposed project that does not receive an invitation to become a participating agency should notify at the earliest opportunity the Project Manager identified above under ADDRESSES.

A comprehensive public involvement program will be developed and a public and agency involvement Coordination Plan will be created. The program will include outreach to local and county officials and community and civic groups; a public scoping process to define the issues of concern among all parties interested in the project; organizing periodic meetings with various local agencies, organizations and committees; a public hearing on release of the draft environmental impact statement (DEIS); and development and distribution of project newsletters.

The purposes of and need for the proposed project have been preliminarily identified in this notice. We invite the public and participating agencies to consider the preliminary statement of purposes of and need for the proposed project, as well as the alternatives proposed for consideration. Suggestions for modifications to the statement of purposes of and need for the proposed project and any other alternatives that meet the purposes of and need for the proposed project are welcomed and will be given serious consideration. Comments on potentially significant environmental impacts that may be associated with the proposed project and alternatives are also welcomed. There will be additional opportunities to participate in the scoping process at the public meetings announced in this notice.

In accordance with 23 CFR 771.105(a) and 771.133, FTA will comply with all Federal environmental laws, regulations, and executive orders applicable to the proposed project during the environmental review process to the maximum extent practicable. These requirements include, but are not limited to, the regulations of the Council on Environmental Quality and FTA implementing NEPA (40 CFR parts 1500-1508, and 23 CFR part 771), the project-level air quality conformity regulation of the U.S. Environmental Protection Agency (EPA) (40 CFR part 93), the section 404(b)(1) guidelines of EPA (40 CFR part 230), the regulation implementing section 106 of the National Historic Preservation Act (36 CFR part 800), the regulation implementing section 7 of the Endangered Species Act (50 CFR part 402), section 4(f) of the DOT Act (23 CFR 771.135), and Executive Orders 12898 on environmental justice, 11988 on floodplain management, and 11990 on wetlands.

In accordance with 36 CFR 800.8(c), RTD will utilize the NEPA/Section 106 merger process for documentation to comply with section 106. RTD will utilize the Memorandum of Agreement between the FTA, Region VIII and the U.S. Army Corps of Engineers (USACE), dated January, 2006 for documentation to comply with section 404 mandates.

In addition, RTD may seek Section 5309 New Starts funding for the project. As provided in the FTA New Starts regulation (49 CFR part 611), New Starts funding requires the submission of certain specific information to FTA to support a request to initiate preliminary engineering, which is normally done in conjunction with the NEPA process.

Issued on: July 13, 2006.
Lee O. Waddleton,
Regional Administrator, Region VIII, Federal Transit Administration.

[FR Doc. E6-11629 Filed 7-20-06; 8:45 am]

BILLING CODE 4910-57-P